DEPARTMENT OF AGRICULTURE

Agricultural Marketing Service

[Doc No. AMS-FGIS-20-0067]

United States Standards for Split Peas

AGENCY: Agricultural Marketing Service, USDA.

ACTION: Reopening of comment period.

SUMMARY: Notice is hereby given that the comment period for a notice for comment published in the Federal Register on September 29, 2020 is reopened. The publication invited comments on the revision to the method of interpretation for determining “whole peas” under the authority of the Agricultural Marketing Act (AMA).

DATES: The comment period for the proposed rule published September 29, 2020 at 85 FR 60955 is reopened. Comments are due by December 28, 2020.

ADDRESSES: We invite you to submit written comments via the internet at http://www.regulations.gov. All comments should refer to the date and page number of this issue of the Federal Register. All comments submitted in response to the notice, including the identity of individuals or entities submitting comments, will be made available to the public on the internet via http://www.regulations.gov.

FOR FURTHER INFORMATION CONTACT: Loren Almond, USDA AMS; Telephone: (816) 891-0422; Email: Loren.L.Almond@usda.gov.

SUPPLEMENTARY INFORMATION: A notice seeking comment on a proposal to amend the Pea and Lentil Inspection Handbook to revise the definition of whole peas, by increasing the percent needed to consider a split pea to be a whole pea from 55 percent or more to 60 percent or more, under the authority of the AMA (7 U.S.C. 1621-1627), was published in the Federal Register on September 29, 2020 (85 FR 60955). The original 30-day comment period provided in the proposed rule closed on October 29, 2020. A stakeholder submitted a comment requesting an extension of the comment period. The Agricultural Marketing Service is reopening the public comment period for an additional 30 days to ensure that interested persons have sufficient time to review and comment on the notice for comment. The comment period is reopened for 30 days from the date of publication of this notice.

Authority: 7 U.S.C. 1621-1627.

Bruce Summers,
Administrator, Agricultural Marketing Service.

[FR Doc. 2020-25808 Filed 11-25-20; 8:45 am]

BILLING CODE P